DEPARTMENT OF TRANSPORTATION

Federal Aviation Administration

14 CFR Part 39

[Docket No. FAA-2025-0476; Project Identifier MCAI-2024-00482-T; Amendment 39-23068; AD 2025-13-02]

RIN 2120-AA64

Airworthiness Directives; Embraer S.A. Airplanes

AGENCY: Federal Aviation Administration (FAA), DOT.

ACTION: Final rule.

SUMMARY: The FAA is adopting a new airworthiness directive (AD) for all Embraer S.A. Model EMB-545 and EMB-550 airplanes. This AD was prompted by a jamming failure of the main door lock sensor. This AD requires repetitive main door sensor operational tests, repetitive lubrication of the main door sensor mechanism, and on condition actions. The FAA is issuing this AD to address the unsafe condition on these products.August 5, 2025.

DATES: This AD is effective August 5, 2025.

The Director of the Federal Register approved the incorporation by reference of a certain publication listed in this AD as of August 5, 2025.

ADDRESSES:

AD Docket: You may examine the AD docket at regulations.gov under Docket No. FAA-2025-0476; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Agência Nacional de Aviação Civil (ANAC) material identified in this AD, contact ANAC, Aeronautical Products Certification Branch (GGCP), Rua Dr. Orlando Feirabend Filho, 230—Centro Empresarial Aquarius—Torre B—Andares 14 a 18, Parque Residencial Aquarius, CEP 12.246-190—São José dos Campos—SP, Brazil; telephone 55 (12) 3203-6600; email pac@anac.gov.br; website anac.gov.br/en/. You may find this material on the ANAC website at sistemas.anac.gov.br/certificacao/DA/DAE.asp.

• You may view this material at the FAA, Airworthiness Products Section, Operational Safety Branch, 2200 South 216th St., Des Moines, WA. For information on the availability of this material at the FAA, call 206-231-3195. It is also available at regulations.gov under Docket No. FAA-2025-0476.

FOR FURTHER INFORMATION CONTACT: Hassan Ibrahim, Aviation Safety Engineer, FAA, 2200 South 216th St., Des Moines, WA 98198; phone: 206-231-3653; email: hassan.m.ibrahim@faa.gov.

SUPPLEMENTARY INFORMATION:

Background

The FAA issued a notice of proposed rulemaking (NPRM) to amend 14 CFR part 39 by adding an AD that would apply to all Embraer S.A. Model EMB-545 and EMB-550 airplanes. The NPRM was published in the Federal Register on March 26, 2025 (90 FR 13716). The NPRM was prompted by AD 2024-08-02, effective August 23, 2024 (ANAC AD 2024-08-02) (also referred to as the MCAI), issued by ANAC, which is the aviation authority for Brazil. The MCAI states there is a possibility of a jamming failure of the main door lock sensor.

In the NPRM, the FAA proposed to require repetitive main door sensor operational tests, repetitive lubrication of the main door sensor mechanism, and on condition actions, as specified in ANAC AD 2024-08-02. The FAA is issuing this AD to address a false indication of a locked door, even when it is only latched, resulting in a dormant system failure and lack of cockpit indication of the door not locked condition. The unsafe condition, if not addressed, could result in an in-flight door opening due to an operational failure.

You may examine the MCAI in the AD docket at regulations.gov under Docket No. FAA-2025-0476.

Discussion of Final Airworthiness Directive

Comments

The FAA received no comments on the NPRM or on the determination of the cost to the public.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

ANAC AD 2024-08-02 specifies procedures for conducting repetitive main door sensor operational tests, repetitive lubrication of the main door sensor mechanism, and applicable on condition actions. (The effective date of ANAC AD 2024-08-02 did not get translated to English. The effective date is August 23, 2024.) On-condition actions include adjusting or replacing the sensor or main door locked sensor support and contacting Embraer for repair instructions. This material is reasonably available because the interested parties have access to it through their normal course of business or by the means identified in the ADDRESSES section.

Costs of Compliance

The FAA estimates that this AD affects 296 airplanes of U.S. registry. The FAA estimates the following costs to comply with this AD:

Estimated Costs for Required Actions
Labor cost | Parts cost | Cost per product | Cost on U.S. operators
Up to 4 work-hours × $85 per hour = $340 | $0 | Up to $340 | Up to $100,640.

The FAA estimates the following costs to do any necessary on-condition action that would be required based on the results of any required actions. The FAA has no way of determining the number of aircraft that might need this on-condition action:

Estimated Costs of On-Condition Actions
Labor cost | Parts cost | Cost per product
Up to 7 work-hours × $85 per hour = $595 | Up to $19,845.27 | Up to $20,440.27.

The FAA has received no definitive data on which to base the cost estimates for the on-condition repairs specified in this AD.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-13-02 Embraer S.A.: Amendment 39-23068; Docket No. FAA-2025-0476; Project Identifier MCAI-2024-00482-T.

(a) Effective Date

This airworthiness directive (AD) is effective August 5, 2025.

(b) Affected ADs

None.

(c) Applicability

This AD applies to all Embraer S.A. Model EMB-545 and EMB-550 airplanes, certificated in any category.

(d) Subject

Air Transport Association (ATA) of America Code 52, Doors.

(e) Unsafe Condition

This AD was prompted by a jamming failure of the main door lock sensor. This jamming could result in a false indication of a locked door, even when it is only latched, resulting in a dormant system failure and lack of cockpit indication of the door not locked condition. The unsafe condition, if not addressed, could result in a door opening in flight due to an operational failure.

(f) Compliance

Comply with this AD within the compliance times specified, unless already done.

(g) Requirements

Except as specified in paragraph (h) of this AD: Comply with all required actions and compliance times specified in, and in accordance with, Agência Nacional de Aviação Civil (ANAC) AD 2024-08-02, effective August 23, 2024 (ANAC AD 2024-08-02).

(h) Exceptions to ANAC AD 2024-08-02

(1) Where ANAC AD 2024-08-02 refers to its effective date, this AD requires using the effective date of this AD.

(2) Where ANAC AD 2024-08-02 specifies on-condition actions, this AD requires performing the applicable on-condition actions before further flight.

(3) Where ANAC AD 2024-08-02 specifies to discard parts, this AD does not require that action.

(4) Where paragraph (c) of ANAC AD 2024-08-02 specifies to repeat the operational test “each 12 months”, this AD requires replacing that text with “at intervals not to exceed 12 months”.

(5) Where paragraph (e) of ANAC AD 2024-08-02 specifies to repeat the lubrication “each 24 months”, this AD requires replacing that text with “at intervals not to exceed 24 months”.

(6) This AD does not adopt paragraph (f) of ANAC AD 2024-08-02.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or ANAC; or ANAC's authorized Designee. If approved by the ANAC Designee, the approval must include the Designee's authorized signature.

(j) Additional Information

For more information about this AD, contact Hassan Ibrahim, Aviation Safety Engineer, FAA, 2200 South 216th St., Des Moines, WA 98198; phone: 206-231-3653; email: hassan.m.ibrahim@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) Agência Nacional de Aviação Civil (ANAC) AD 2024-08-02, effective August 23, 2024.

Note 1 to paragraph (k)(2)(i): The effective date of ANAC AD 2024-08-02 did not get translated to English. The effective date is August 23, 2024.

(ii) [Reserved]

(3) For ANAC material identified in this AD, contact ANAC, Aeronautical Products Certification Branch (GGCP), Rua Dr. Orlando Feirabend Filho, 230—Centro Empresarial Aquarius—Torre B—Andares 14 a 18, Parque Residencial Aquarius, CEP 12.246-190—São José dos Campos—SP, Brazil; telephone 55 (12) 3203-6600; email pac@anac.gov.br; website anac.gov.br/en/. You may find this material on the ANAC website at sistemas.anac.gov.br/certificacao/DA/DAE.asp.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locationsoremailfr.inspection@nara.gov.

Issued on June 18, 2025.
Steven W. Thompson,
Acting Deputy Director, Compliance & Airworthiness Division, Aircraft Certification Service.

[FR Doc. 2025-12244 Filed 6-30-25; 8:45 am]

BILLING CODE 4910-13-P